NUCLEAR REGULATORY COMMISSION

[NRC-2022-0183]

Vistra Operations Company LLC; Comanche Peak Nuclear Power Plant, Units 1 and 2; Correction

AGENCY: Nuclear Regulatory Commission.

ACTION: Draft supplemental environmental impact statement; public meeting and request for comment; correction.

SUMMARY: The U.S. Nuclear Regulatory Commission (NRC) is correcting a notice that was published in the Federal Register (FR) on November 3, 2023, requesting public comment on draft Supplement 60, License Renewal, to the Generic Environmental Impact Statement (GEIS) for License Renewal of Nuclear Plants, NUREG-1437, regarding the renewal of Facility Operating License Nos. NPF-87 and NPF-89 for an additional 20 years of operation for Comanche Peak Nuclear Power Plant, Units 1 and 2. This action is necessary to align with the comment period specified by the U.S. Environmental Protection Agency, specifically for the Comanche Peak License Renewal draft environmental impact statement.

DATES: The correction takes effect on November 14, 2023.

ADDRESSES: Please refer to Docket ID NRC-2022-0183 when contacting the NRC about the availability of information regarding this document. You may obtain publicly available information related to this document using any of the following methods:

• Federal Rulemaking website: Go to https://www.regulations.gov and search for Docket ID NRC-2022-0183. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Supplement 60, License Renewal, to the GEIS for License Renewal of Nuclear Plants, NUREG-1437, is available in ADAMS under Accession No. ML23299A252.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Tam Tran, Office of Nuclear Material Safety and Safeguards, U.S. Nuclear Regulatory Commission, Washington, DC 20555-0001, telephone: 301-415-3617; email: Tam.Rran@nrc.gov.

SUPPLEMENTARY INFORMATION: In the FR on November 3, 2023, in FR Doc. 2023-24294, on page 75629, third column, the last paragraph, in the DATES section, correct “Members of the public are invited to submit comments by December 18, 2023” to read “Members of the public are invited to submit comments by December 26, 2023.”

Dated: November 8, 2023.
For the Nuclear Regulatory Commission.
John M. Moses,
Deputy Director, Division of Rulemaking, Environmental, and Financial Support, Office of Nuclear Material Safety,and Safeguards.

[FR Doc. 2023-25065 Filed 11-13-23; 8:45 am]

BILLING CODE 7590-01-P